DEPARTMENT OF ENERGY

Federal Energy Regulatory Commission

[Docket No. RP03-87-000]

Algonquin LNG, LP; Notice of Tariff Filing

November 22, 2002.

Take notice that on November 20, 2002, Algonquin LNG, LP (ALNG) tendered for filing as part of its FERC Gas Tariff, Second Revised Volume No. 1, the tariff sheets listed in Appendix A of the filing, to be effective December 21, 2002.

ALNG states that the purpose of this filing is to modify the ALNG Tariff to reflect (i) the reinstatement of the price ceiling for short-term capacity release transactions, and, (ii) the removal of references to the Telephone Bulletin Board since ALNG posts on its Internet Web site the information that ALNG is required to make publicly available.

ALNG states that copies of its filing have been mailed to all affected customers and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Linwood A. Watson, Jr.,
Deputy Secretary.

[FR Doc. 02-30290 Filed 11-27-02; 8:45 am]

BILLING CODE 6717-01-P